DEPARTMENT OF TRANSPORTATION

Federal Aviation Administration

14 CFR Part 39

[Docket No. 2001-NM-381-AD; Amendment 39-14832; AD 2006-24-03]

RIN 2120-AA64

Airworthiness Directives; Airbus Model A330-200, A330-300, A340-200, and A340-300 Series Airplanes

AGENCY: Federal Aviation Administration, DOT.

ACTION: Final rule.

SUMMARY: This amendment adopts a new airworthiness directive (AD), applicable to certain Airbus Model A330-200, A330-300, A340-200, and A340-300 series airplanes. This AD requires repetitive inspections for discrepancies of the grease and gear teeth of the radial variable differential transducer of the nose wheel steering gearbox; or repetitive inspections for damage of the chrome on the bearing surface of the nose landing gear (NLG) main fitting barrel; as applicable. And, for airplanes with any discrepancy or damage, this AD requires an additional inspection or corrective actions. This AD also adds a terminating action. The actions specified by this AD are intended to prevent incorrect operation or jamming of the nose wheel steering, which could cause reduced controllability of the airplane on the ground. This action is intended to address the identified unsafe condition.

DATES: Effective December 27, 2006.

The incorporation by reference of certain publications listed in the regulations is approved by the Director of the Federal Register as of December 27, 2006.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION: A proposal to amend part 39 of the Federal Aviation Regulations (14 CFR part 39) to include an airworthiness directive (AD) that is applicable to certain Airbus Model A330-200, A330-300, A340-200, and A340-300 series airplanes was published as a supplemental notice of proposed rulemaking (NPRM) in the Federal Register on August 8, 2006 (71 FR 44937). That action proposed to require repetitive inspections for discrepancies of the grease and gear teeth of the radial variable differential transducer of the nose wheel steering gearbox; or repetitive inspections for damage of the chrome on the bearing surface of the nose landing gear (NLG) main fitting barrel; as applicable. And, for airplanes with any discrepancy or damage, that action proposed to require an additional inspection or corrective actions. That action also proposed to add a terminating action and remove certain airplanes from the applicability.

Comments

Interested persons have been afforded an opportunity to participate in the making of this amendment. Due consideration has been given to the comment received.

Request To Change Incorporation of Certain Information

The Modification and Replacement Parts Association (MARPA) states that, typically, airworthiness directives are based on service information originating with the type certificate holder or its suppliers. MARPA adds that manufacturer service documents are privately authored instruments generally having copyright protection against duplication and distribution. MARPA notes that when a service document is incorporated by reference into a public document, such as an airworthiness directive, it loses its private, protected status and becomes a public document. MARPA adds that if a service document is used as a mandatory element of compliance, it should not simply be referenced, but should be incorporated into the regulatory document; by definition, public laws must be public, which means they cannot rely upon private writings. MARPA adds that incorporated-by-reference service documents should be made available to the public by publication in the Docket Management System (DMS), keyed to the action that incorporates them. MARPA notes that the stated purpose of the incorporation-by-reference method is brevity, to keep from expanding the Federal Register needlessly by publishing documents already in the hands of the affected individuals; traditionally, “affected individuals” means aircraft owners and operators, who are generally provided service information by the manufacturer. MARPA adds that a new class of affected individuals has emerged, since the majority of aircraft maintenance is now performed by specialty shops instead of aircraft owners and operators. MARPA notes that this new class includes maintenance and repair organizations, component servicing and repair shops, parts purveyors and distributors, and organizations manufacturing or servicing alternatively certified parts [under part 21 of the Federal Aviation Regulations (14 CFR part 21), § 21.303 (parts manufacturer approval)]. MARPA adds that the concept of brevity is now nearly archaic as documents exist more frequently in electronic format than on paper. Therefore, MARPA asks that the service documents deemed essential to the accomplishment of the supplemental NPRM be incorporated by reference into the regulatory instrument, and published in the DMS.

We do not agree that documents should be incorporated by reference during the NPRM phase of rulemaking. The Office of the Federal Register (OFR) requires that documents that are necessary to accomplish the requirements of the AD be incorporated by reference during the final rule phase of rulemaking. This final rule incorporates by reference the documents necessary for the accomplishment of the requirements mandated by this AD. Further, we point out that while documents that are incorporated by reference do become public information, they do not lose their copyright protection. For that reason, we advise the public to contact the manufacturer to obtain copies of the referenced service information.

Additionally, we do not publish service documents in DMS. We are currently reviewing our practice of publishing proprietary service information. Once we have thoroughly examined all aspects of this issue, and have made a final determination, we will consider whether our current practice needs to be revised. However, we consider that to delay this AD action for that reason would be inappropriate, since we have determined that an unsafe condition exists and that the requirements in this AD must be accomplished to ensure continued safety. Therefore, we have not changed the AD in this regard.

Explanation of Changes to the Supplemental NPRM

Paragraph (e)(2) of the supplemental NPRM specifies making repairs using a method approved by either the FAA or the Direction Générale de l'Aviation Civile (DGAC) (or its delegated agent). The European Aviation Safety Agency (EASA), which is the airworthiness authority for the European Union, has assumed responsibility for the airplane models subject to this AD. Therefore, we have revised paragraph (e)(2) of this AD to specify making repairs using a method approved by the FAA, the DGAC (or its delegated agent), or the EASA (or its delegated agent).

Model designations have been added to Table 2 of paragraph (g)(2) of the supplemental NPRM for clarification.

Conclusion

We have carefully reviewed the available data, including the comment received, and we have determined that air safety and the public interest require the adoption of the rule with the change previously described. This change will neither increase the economic burden on any operator nor increase the scope of the AD.

Cost Impact

The following table provides the estimated costs for U.S. operators to comply with this AD.

Estimated Costs
Action | Work hours | Average labor rate per hour | Parts | Cost per airplane | Number of U.S.-registered airplanes | Fleet cost
Radial variable differential transducer inspection, per inspection cycle | 6 | $80 | None | $480 | 11 | $5,280.
Chrome inspection, per inspection cycle | 13 | 80 | None | $1,040 | 15 | $15,600.
Modification (Service Bulletin A330-32-3164 or A340-32-4204) | 15 | 80 | $10,244 to $11,337 | $11,444 to $12,537 | 12 | $137,328 to $150,444.
Rotating sleeve grease system modification (Service Bulletin A330-32-3192 or A340-32-4227) | 15 | 80 | Unknown | From $1,200 | 23 | From $27,600.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2006-24-03 Airbus: Amendment 39-14832. Docket 2001-NM-381-AD.

Applicability: The following airplanes, certificated in any category, except those modified in production by both Airbus Modifications 51381 and 53073:

Model A330-201, -202, -203, -223, and -243 airplanes

Model A330-301, -302, -303, -321, -322, -323, -341, -342, and -343 airplanes

Model A340-211, -212, and -213 airplanes

Model A340-311, -312, and -313 airplanes

Compliance: Required as indicated, unless accomplished previously.

To prevent incorrect operation or jamming of the nose wheel steering (NWS), which could cause reduced controllability of the airplane on the ground, accomplish the following:

Inspections: Airplanes Without Modification 51381

(a) For airplanes that were not modified in production by Airbus Modification 51381: Do the inspection specified in either paragraph (a)(1) or (a)(2) of this AD, in accordance with the required service bulletin identified in Table 1 of this AD, as applicable. The required compliance time is specified in paragraph (b) of this AD.

(1) Inspect for discrepancies of the grease by sending it to a laboratory for analysis, and do a detailed inspection for discrepancies of the gear teeth of the radial variable differential transducer (RVDT) driving ring and the gears in the RVDT gearboxes. If there are no discrepancies (such as metallic particles in the grease, abnormal wear of the gear teeth, or missing rubber sealant at the mating face between the main fitting and the RVDT gearbox), repeat the inspection as specified in paragraph (c) of this AD. If there is any discrepancy, do the inspection in paragraph (a)(2) of this AD within 3 months after the inspection specified in paragraph (a)(1) of this AD.

(2) Do a detailed inspection for damage of the chrome on the bearing surface of the nose landing gear (NLG) main fitting barrel under the NWS rotating sleeve. If there is no damage (such as flaking, corrosion, or blistering), repeat the inspection as specified in paragraph (c) of this AD. If there is any damage, before further flight, do the corrective action in paragraph (e) of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Table 1.—Inspection Service Bulletins
Airplane models | Airbus Service Bulletin | Required revision level | Approved revision level (for actions done before the effective date of the AD)
A330-200 and -300 series airplanes | A330-32-3134 | Revision 04, including Appendix 01, dated April 3, 2006 | Original, dated September 11, 2001. Revision 01, dated November 29, 2001. Revision 02, dated August 8, 2003. Revision 03, dated May 11, 2005.
A340-200 and -300 series airplanes | A340-32-4172 | Revision 04, including Appendix 01, dated April 3, 2006 | Original, dated September 11, 2001. Revision 01, dated November 29, 2001. Revision 02, dated August 8, 2003. Revision 03, dated May 11, 2005.

(b) For airplanes identified in paragraph (a) of this AD: Do the initial inspection specified in paragraph (a) of this AD at the latest of the following times:

(1) Within 60 months after the date that the new NLG was installed on the airplane.

(2) Within 60 months after the last major NLG overhaul accomplished before the effective date of this AD.

(3) Within 700 flight hours after the effective date of this AD.

(c) For airplanes identified in paragraph (a) of this AD: Repeat either inspection specified in paragraph (a)(1) or (a)(2) of this AD at intervals not to exceed the applicable interval specified in paragraph (c)(1) or (c)(2) of this AD, until the requirements of paragraph (g) of this AD are done.

(1) If the most recent inspection was the inspection specified in paragraph (a)(1) of this AD, then the next inspection must be done within 8 months.

(2) If the most recent inspection was the inspection specified in paragraph (a)(2) of this AD, then the next inspection must be done within 18 months.

Repetitive Inspections: Airplanes With Modification 51381

(d) For airplanes modified in production by Airbus Modification 51381: Perform a detailed inspection for damage of the chrome on the bearing surface of the NLG main fitting barrel under the NWS rotating sleeve. Do the inspection at the later of the times specified in paragraphs (d)(1) and (d)(2) of this AD in accordance with the applicable required Airbus service bulletin identified in Table 1 of this AD. Repeat the inspection thereafter at intervals not to exceed 18 months, until the requirements of paragraph (g) of this AD have been done.

(1) Within 60 months after the date that the new NLG was installed on the airplane.

(2) Within 60 months after the last major NLG overhaul accomplished before the effective date of this AD.

Follow-on Investigative and Corrective Actions

(e) For all airplanes: If any damage or discrepancy is found during any inspection required by this AD, do the corrective action before further flight in accordance with the applicable required Airbus service bulletin identified in Table 1 of this AD, with the following exceptions:

(1) If discrepancies are found during any inspection specified in paragraph (a)(1) of this AD, the inspection in paragraph (a)(2) of this AD is required within 3 months.

(2) Where the service bulletin recommends contacting Messier-Dowty for appropriate action. Repair before further flight in accordance with a method approved by the Manager, International Branch, ANM-116, FAA, Transport Airplane Directorate; the Direction Gonorale de l'Aviation Civile (or its delegated agent); or the European Aviation Safety Agency (or its delegated agent).

Note 2: Airbus Service Bulletins A330-32-3134 and A340-32-4172, both Revision 04, both dated April 3, 2006, refer to Messier-Dowty Special Inspection Service Bulletins D23285-32-037, Revision 2, dated May 23, 2002; and D23285-32-044, dated January 12, 2004; as additional sources of service information for the inspections.

Credit for Prior Accomplishment

(f) Actions done before the effective date of this AD in accordance with an applicable Approved Revision Level of the service bulletin identified in Table 1 of this AD are acceptable for compliance with the corresponding requirements of paragraphs (a), (d), and (e) of this AD.

Modification

(g) For all airplanes: At the applicable time specified in paragraph (g)(1) or (g)(2) of this AD, modify the NLG as specified in Table 2 of this AD, as applicable.

(1) For NLGs overhauled before the effective date of this AD: At the later of the times specified in paragraphs (g)(1)(i) and (g)(1)(ii) of this AD:

(i) Within 60 months since the NLG was overhauled or 180 months since the NLG was new, whichever occurs first.

(ii) Within 6 months after the effective date of this AD.

(2) For NLGs not overhauled before the effective date of this AD: Within 120 months since the NLG was new, or within 6 months after the effective date of this AD, whichever occurs later.

Table 2.—Modification
For airplanes— | Modify the NLG in accordance with—
For Model A330 airplanes without Airbus Modifications 51381 and 53073 done in production | Airbus Service Bulletin A330-32-3164, dated June 27, 2003, or Revision 01, dated March 21, 2006; and A330-32-3192, dated December 8, 2005.
For Model A340 airplanes without Airbus Modifications 51381 and 53073 done in production | Airbus Service Bulletins A340-32-4204, dated June 27, 2003, or Revision 01, dated March 21, 2006; and A340-32-4227, dated December 8, 2005.
For Model A330 airplanes with Airbus Modification 51381 but not Airbus Modification 53073 done in production | Airbus Service Bulletin A330-32-3192, dated December 8, 2005.
For Model A340 airplanes with Airbus Modification 51381 but not Airbus Modification 53073 done in production | Airbus Service Bulletin A340-32-4227, dated December 8, 2005.
For Model A330 airplanes with Airbus Modification 53073 but not Airbus Modification 51381 done in production | Airbus Service Bulletin A330-32-3164, dated June 27, 2003, or Revision 01, dated March 21, 2006.
For Model A340 airplanes with Airbus Modification 53073 but not Airbus Modification 51381 done in production | Airbus Service Bulletin A340-32-4204, dated June 27, 2003, or Revision 01, dated March 21, 2006.

Terminating Action

(h) Accomplishment of both NLG modifications specified in paragraph (g) of this AD terminates the repetitive inspection requirements of this AD.

Note 3: Airbus Service Bulletins A330-32-3164 and A340-32-4204 refer to Messier-Dowty Service Bulletin D23285-32-042, dated June 19, 2003, as an additional source of service information for the modification.

Note 4: Airbus Service Bulletins A330-32-3192 and A340-32-4227 refer to Messier-Dowty Service Bulletin D23581-32-047, dated December 1, 2005, as an additional source of service information for the modification.

Reporting

(i) Certain service bulletins specify to submit a report to the manufacturer. This AD does not require a report, unless the grease analysis required by paragraph (a)(1) of this AD is done at a lab chosen by the operator, which requires the results to be evaluated by Messier-Dowty.

Alternative Methods of Compliance

(j)(1) In accordance with 14 CFR 39.19, the Manager, International Branch, ANM-116, is authorized to approve alternative methods of compliance for this AD.

(2) Before using any AMOC approved in accordance with 14 CFR 39.19 on any airplane to which the AMOC applies, notify the appropriate principal inspector in the FAA Flight Standards Certificate Holding District Office.

Note 5: The subject of this AD is addressed in French airworthiness directives F-2005-209 and F-2005-210, both dated December 21, 2005.

Incorporation by Reference

(k) Unless otherwise specified in this AD, the actions must be done in accordance with the applicable service bulletins identified in Table 3 of this AD. This incorporation by reference was approved by the Director of the Federal Register in accordance with 5 U.S.C. 552(a) and 1 CFR part 51. To get copies of this service information, contact Airbus, 1 Rond Point Maurice Bellonte, 31707 Blagnac Cedex, France. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Table 3.—Material Incorporated by Reference
Airbus Service Bulletin | Revision level | Date
A330-32-3134, including Appendix 01 | Revision 04 | April 3, 2006.
A330-32-3164 | Original | June 27, 2003.
A330-32-3164 | Revision 01 | March 21, 2006.
A330-32-3192 | Original | December 8, 2005.
A340-32-4172, including Appendix 01 | Revision 04 | April 3, 2006.
A340-32-4204 | Original | June 27, 2003.
A340-32-4204 | Revision 01 | March 21, 2006.
A340-32-4227 | Original | December 8, 2005.

Effective Date

(l) This amendment becomes effective on December 27, 2006.

Issued in Renton, Washington, on November 8, 2006.
Kalene C. Yanamura,
Acting Manager, Transport Airplane Directorate, Aircraft Certification Service.

[FR Doc. E6-19535 Filed 11-21-06; 8:45 am]

BILLING CODE 4910-13-P